DEPARTMENT OF TRANSPORTATION

Coast Guard

33 CFR Part 117

[CGD01-00-128]

Drawbridge Operation Regulations: Piscataqua River, ME

AGENCY: Coast Guard, DOT.

ACTION: Notice of temporary deviation from regulations.

SUMMARY: The Commander, First Coast Guard District has issued a temporary deviation from the existing drawbridge regulations for the Sarah M. Long (Route 1 Bypass) Bridge, mile 4.0, across the Piscataqua River between Kittery, Maine and Portsmouth, New Hampshire. This deviation allows the bridge owner to keep the bridge in the closed position for 5 hours, 12 p.m. through 5 p.m., on May 17, 2000. This deviation is necessary to facilitate electrical repairs at the bridge.

DATES: This deviation is effective on May 17, 2000.

FOR FURTHER INFORMATION CONTACT: Mr. John McDonald, Project Officer, First Coast Guard District, (617) 223-8364.

SUPPLEMENTARY INFORMATION: The Sara Long (Route 1 Bypass) Bridge has a vertical clearance of 10 feet at mean high water and 18 feet at mean low water. The existing regulations for the bridge in 33 CFR 117.531(c) require the bridge to open on signal, except that; from 15 May through 31 October, from 7 a.m. to 7 p.m., the draw need be opened only at quarter of and quarter after the hour for recreational vessels and commercial vessels less than 100 gross tons except as provided in paragraph (a)(1). Paragraph (a)(1) states that vessels over 100 gross tons, inbound ferry service vessels and inbound commercial fishing vessels shall be passed through the draw as soon as possible without delay at any time.

The bridge owner, the New Hampshire Department of Transportation, asked the Coast Guard to allow the bridge to remain closed for 5 hours, 12 p.m. through 5 p.m., on May 17, 2000, to facilitate electrical repairs at the bridge.

In accordance with 33 CFR 117.35(c), this work will be performed with all due speed in order to return the bridge to normal operation as soon as possible. This deviation is authorized under 33 CFR 117.35.

Dated: April 24, 2000.
Robert F. Duncan,
Captain, U.S. Coast Guard, Acting Commander, First Coast Guard District.

[FR Doc. 00-10944 Filed 5-2-00; 8:45 am]

BILLING CODE 4910-15-U